DEPARTMENT OF ENERGY

Federal Energy Regulatory Commission

18 CFR Chapter I

[Docket No. RM02-9-001; Order No. 626]

Electronic Filing of Form 1, and Elimination of Certain Designated Schedules in FERC Form Nos. 1 and 1-F

December 26, 2002.

AGENCY: Federal Energy Regulatory Commission, DOE.

ACTION: Final rule; correction.

SUMMARY: In this correction, the Federal Energy Regulatory Commission is correcting its Final Rule and identifying what designated lines and schedules in Form No. 1-F should be retained or eliminated.

EFFECTIVE DATE: Effective on January 2, 2003.

FOR FURTHER INFORMATION CONTACT:

Kevin A. Jones (Technical Information), Office of Markets, Tariffs and Rates, FERC, 888 First Street, NE., Washington, DC 20426, (202) 502-6185, Kevin.Jones@ferc.gov.

Bolton Pierce (Electronic System), Office of Markets Tariffs and Rates, FERC, 888 First Street, NE., Washington, DC 20426, (202) 502-8803, bolton.pierce@ferc.gov.

Julia Lake (Legal Information), Office of General Counsel, FERC, 888 First Street, NE., Washington, DC 20426, (202) 502-8370, julia.lake@ferc.gov.

SUPPLEMENTARY INFORMATION:

Before Commissioners: Pat Wood, III, Chairman; William L. Massey, and Nora Mead Brownell.

Correction of Final Rule

On May 16, 2002, the Commission issued Order No. 626, a Final Rule that provided for electronic filing of FERC Form No. 1 and the elimination of certain designated schedules in FERC Form Nos. 1 and 1-F.¹ In this correction, the Commission is correcting its Final Rule and identifying what designated lines and schedules in Form No. 1-F (Form 1-F), principally in the Comparative Balance Sheet and the Statement of Income for the Year, should be retained or eliminated.

¹ 67 FR 36093 (May 23, 2002), III FERC Stats. & Regs. ¶ 31,130 (May 16, 2002).

The following schedules or parts of schedules are eliminated from Form 1-F:

• Data on Security Holders and Voting Powers (Part X, P. 18). (Nonmajor utilities should continue to report Data on Officers and Directors (Part XI, P. 18), however.)

• Number of Electric Department Employees (P. 323).

The Commission corrects the Final Rule by not eliminating the following from the Form 1-F: Nonutility Property (121, P. 110); Capital Stock Subscribed, Capital Stock Liability for Conversion, Premium on Capital Stock, and Installments Received on Capital Stock (252, P. 112); Discount on Capital Stock (254, P. 112); Particulars Concerning Certain Income Deduction and Interest Charges (340, P. 117); Electric Distribution Meters and Line Transformers (429, lines 63 & 65, P. 206); and Allowance for Borrowed Funds Used During Construction in Construction Overheads—Electric (217, P. 8). These line items contain accounts reflected in the Commission's Uniform System of Accounts that are needed to provide an accurate and complete reporting of a utility's accounting for transactions and events, and to provide relevant non-financial information related to its operations.

By the Commission.
Linwood A. Watson, Jr.,
Deputy Secretary.

[FR Doc. 02-33091 Filed 12-31-02; 8:45 am]

BILLING CODE 6717-01-M